DEPARTMENT OF HEALTH AND HUMAN SERVICES

Centers for Disease Control and Prevention

Breast and Cervical Cancer Early Detection and Control Advisory Committee (BCCEDCAC)

In accordance with section 10(a)(2) of the Federal Advisory Committee Act (Pub. L. 92-463), the Centers for Disease Control and Prevention (CDC), announces the following meeting of the aforementioned committee:

Time and Date: 9 a.m.-12 p.m., Eastern Standard Time, February 3, 2014.

Place: Teleconference.

Teleconference login information is as follows: For Participants: TOLL-FREE PHONE #: 888-989-8135 Participant passcode: 4798.

For Participants: URL: https://www.mymeetings.com/nc/join/ Conference number: PW3674736. Audience passcode: 4798.

Participants can join the event directly at: https://www.mymeetings.com/nc/join.php?i=PW3674736&p=4798&t=c

There is also a toll free number for anyone outside of the USA: TOLL #: 1-203-827-7034, Participant passcode: 4798.

Status: Open to the public, limited only by the net conference and audio phone lines available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include the following: (1) Discussing the impact of implementation of the Affordable Care Act on the National Breast and Cervical Cancer Early Detection Program; and (2) exploring options to expand services to impact women beyond the current eligible screening population.

Agenda items are subject to change as priorities dictate.

Contact Person for More Information: Jameka R. Blackmon, MBA, CMP, Designated Federal Officer, National Center for Chronic Disease Prevention and Health Promotion, CDC, 4770 Buford Highway NE., Mailstop F76, Atlanta, Georgia 30341, Telephone (770) 488-4880.

The Director, Management Analysis and Services Office, has been delegated the authority to sign Federal Register notices pertaining to announcements of meetings and other committee management activities, for both the Centers for Disease Control and Prevention, and Agency for Toxic Substances and Disease Registry.

Elaine Baker,
Director, Management Analysis and Services Office, Centers for Disease Control and Prevention.

[FR Doc. 2014-00457 Filed 1-13-14; 8:45 am]

BILLING CODE 4163-18-P